OFFICE OF THE UNITED STATES TRADE REPRESENTATIVE

Notice of Meeting of the Industry Sector Advisory Committee on Services (ISAC-13)

AGENCY: Office of the United States Trade Representative.

ACTION: Notice of Meeting.

SUMMARY: The Industry Sector Advisory Committee on Services will hold a meeting on November 21, 2000, from 9:00 a.m. to 12:30 p.m. The meeting will be opened to the public from 9:00 a.m. to 10:00 a.m., and closed to the public from 10:00 a.m. to 12:30 p.m.

DATES: The meeting is scheduled for November 21, 2000, unless otherwise notified.

ADDRESSES: The meeting will be held at the Department of Commerce, Conference Room B841-A, located at 14th Street between Pennsylvania and Constitution Avenues, NW., Washington, DC.

FOR FURTHER INFORMATION CONTACT: Karen Holderman, (202) 482-0345, Department of Commerce, 14th Street and Constitution Avenue, NW., Washington, DC 20230, or Dominic Bianchi, Office of the United States Trade Representative, 1724 F Street, NW., Washington, DC 20508, (202) 395-6120.

SUPPLEMENTARY INFORMATION: During the opened portion of the meeting the following topics will be discussed:

1. Review of ISAC Mission to Geneva.

2. Overview of GATS Work Program.

3. Review of Preparation of GATS Council for Trade in Services Meeting December 6, 2000.

Dominic Bianchi,
Acting Assistant United States Trade Representative for Intergovernmental Affairs and Public Liaison.

[FR Doc. 00-29047 Filed 11-8-00; 1:56 pm]

BILLING CODE 3190-01-M